DEPARTMENT OF TRANSPORTATION

Federal Aviation Administration

14 CFR Part 39

[Docket No. FAA-2005-21170; Directorate Identifier 2002-NM-124-AD; Amendment 39-14298; AD 2005-20-05]

RIN 2120-AA64

Airworthiness Directives; Boeing Model 767-200 and 767-300 Series Airplanes

AGENCY: Federal Aviation Administration (FAA), Department of Transportation (DOT).

ACTION: Final rule.

SUMMARY: The FAA is adopting a new airworthiness directive (AD) for certain Boeing Model 767-200 and 767-300 series airplanes. This AD requires performing a general visual inspection to determine the part number of the I-beams of the center overhead stowage bin modules to identify I-beams having 9.0g (gravitational acceleration) tie rods attached and to determine the configuration of the center overhead stowage bin modules. For certain center overhead stowage bin modules, this AD requires installing support straps. This AD results from tests conducted by the airplane manufacturer. We are issuing this AD to prevent failure of the attachment of the 9.0g tie rods to the center overhead stowage bin modules. This failure could result in collapse of those stowage bin modules, and consequent injury to passengers and crew and interference with their ability to evacuate the airplane in an emergency.

DATES: Effective November 3, 2005.

The Director of the Federal Register approved the incorporation by reference of a certain publication listed in the AD as of November 3, 2005.

ADDRESSES: You may examine the AD docket on the Internet at http://dms.dot.gov or in person at the Docket Management Facility, U.S. Department of Transportation, 400 Seventh Street SW., Nassif Building, room PL-401, Washington, DC.

Contact Boeing Commercial Airplanes, P.O. Box 3707, Seattle, Washington 98124-2207, for service information identified in this AD.

FOR FURTHER INFORMATION CONTACT: Susan Rosanske, Aerospace Engineer, Cabin Safety and Environmental Systems Branch, ANM-150S, FAA, Seattle Aircraft Certification Office, 1601 Lind Avenue, SW., Renton, Washington 98055-4056; telephone (425) 917-6448; fax (425) 917-6590.

SUPPLEMENTARY INFORMATION:

Examining the Docket

You may examine the AD docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain Boeing Model 767-200 and 767-300 series airplanes. That NPRM was published in the Federal Register on May 10, 2005 (70 FR 24488). That NPRM proposed to require performing a general visual inspection to determine the part number of the I-beams of the center overhead stowage bin modules to identify I-beams having 9.0g (gravitational acceleration) tie rods attached and to determine the configuration of the center overhead stowage bin modules. For certain center overhead stowage bin modules, that NPRM also proposed to require installing support straps.

Comments

We provided the public the opportunity to participate in the development of this AD. We have considered the comments that have been received on the NPRM.

Request To Revise Applicability

One commenter requests that we revise the applicability of the NPRM to exclude airplanes that have been converted in accordance with a supplemental type certificate (STC) to a freighter configuration without the subject center overhead stowage bin modules. The commenter recommends changing the applicability paragraph to read, “This AD applies to Boeing Model 767-200 and -300 series airplanes equipped with center overhead stowage bin modules, certified in any category; as identified in Boeing Special Attention Service Bulletin 767-25-0320, dated April 11, 2002.” The commenter states that this revision will reduce the number of alternate method of compliance (AMOC) requests submitted to the FAA, and, therefore, will reduce the use of FAA resources.

We agree that airplanes without the subject center overhead stowage bin modules should not be subject to the requirements of this AD, because, without those subject stowage bin modules, those airplanes are not subject to the unsafe condition addressed by this AD. Therefore, we have revised the applicability of the final rule to exclude airplanes that are not equipped with center overhead stowage bin modules.

Request To Delay Issuance of AD and To Reference Latest Service Information

The other commenter, the manufacturer, requests that we delay issuance of the rule until it releases Revision 1 to Boeing Special Attention Service Bulletin 767-25-0320 (the original issue of this service bulletin was referenced in the NPRM as the appropriate source of service information for doing the proposed actions), which it intends to do at an unspecified time in the future. The commenter further states that the revision will clarify Figures 1 and 6 of the service bulletin, but it will not impact the intent of the service bulletin.

We do not agree to delay issuance of this AD. We do not consider that delaying this action until after the release of the manufacturer's planned service bulletin is warranted, since the currently referenced service bulletin contains procedures that are sufficient for correcting the unsafe condition addressed by this AD. Once the revised service bulletin is released, operators may submit the revised instructions as a proposed AMOC, in accordance with paragraph (i) of this AD. We have not changed the final rule in this regard.

Clarification of Alternative Method of Compliance (AMOC) Paragraph

We have revised this action to clarify the appropriate procedure for notifying the principal inspector before using any approved AMOC on any airplane to which the AMOC applies.

Conclusion

We have carefully reviewed the available data, including the comments that have been received, and determined that air safety and the public interest require adopting the AD with the changes described previously. We have determined that these changes will neither increase the economic burden on any operator nor increase the scope of the AD.

Costs of Compliance

There are about 747 airplanes of the affected design in the worldwide fleet. There are about 281 airplanes of U.S. registry. The following table provides the estimated costs for U.S. operators to comply with this AD. There are approximately 13 center overhead stowage bin modules per airplane and one I-beam per module.

Estimated Costs
Action | Work hours | Average labor rate per hour | Parts | Cost per airplane | Fleet cost
Inspection to determine P/N and configuration | 1, per I-beam | $65 | None | $65, per I-beam | $237,445
Strap installation | 12, per I-beam | $65 | $816, per I-beam | $1,596, per I-beam | $5,830,188

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2005-20-05 Boeing: Amendment 39-14298. Docket No. FAA-2005-21170; Directorate Identifier 2002-NM-124-AD.

Effective Date

(a) This AD becomes effective October 31, 2005.

Affected ADs

(b) None.

Applicability

(c) This AD applies to Boeing Model 767-200 and 767-300 series airplanes equipped with center overhead stowage bin modules, certificated in any category; as identified in Boeing Special Attention Service Bulletin 767-25-0320, dated April 11, 2002.

Unsafe Condition

(d) This AD results from tests conducted by the airplane manufacturer. We are issuing this AD to prevent failure of the attachment of the 9.0g (gravitational acceleration) tie rods to the center overhead stowage bin modules. This failure could result in collapse of those stowage bin modules, and consequent injury to passengers and crew and interference with their ability to evacuate the airplane in an emergency.

Compliance

(e) You are responsible for having the actions required by this AD performed within the compliance times specified, unless the actions have already been done.

Inspection to Determine I-beam Part Number (P/N)

(f) Within 36 months after the effective date of this AD: Perform a general visual inspection of the center overhead stowage bin modules to determine the P/N of each I-beam and to determine the configuration of each center overhead stowage bin module. Do the inspection in accordance with the Accomplishment Instructions of Boeing Special Attention Service Bulletin 767-25-0320, dated April 11, 2002.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

(g) For any I-beam found having P/N 412T2040-29 during the inspection required by paragraph (f) of this AD: No further action is required by this AD for that I-beam only.

Support Strap Installation

(h) For any I-beam found having a P/N other than P/N 412T2040-29 during the inspection required by paragraph (f) of this AD: Before further flight, do the actions in paragraph (h)(1) or (h)(2) of this AD, as applicable, in accordance with the Accomplishment Instructions of Boeing Special Attention Service Bulletin 767-25-0320, dated April 11, 2002.

(1) If the forward-most stowage bin module was inspected: Before further flight, install support straps having P/N 412T2043-101 and 412T2043-102 on the center overhead stowage bin module, in accordance with Figures 3, 4, and 5 of the Accomplishment Instructions of the service bulletin.

(2) If the stowage bin module inspected was other than the forward-most stowage bin module: Before further flight, do the actions specified in paragraph (h)(2)(i) or (h)(2)(ii) of this AD, as applicable.

(i) For center overhead stowage bin modules having “Configuration A,” as specified in the service bulletin: Before further flight, do the actions specified in paragraph (h)(1) of this AD.

(ii) For center overhead stowage bin modules having a configuration other than “Configuration A,” as specified in the service bulletin: Before further flight, install two support straps having P/N 412T2043-119 on the center overhead stowage bin module, in accordance with Figures 3, 4, and 6 of the Accomplishment Instructions of the service bulletin.

Alternative Methods of Compliance (AMOCs)

(i)(1) The Manager, Seattle Aircraft Certification Office (ACO), FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Material Incorporated by Reference

(j) You must use Boeing Special Attention Service Bulletin 767-25-0320, dated April 11, 2002, to perform the actions that are required by this AD, unless the AD specifies otherwise. The Director of the Federal Register approved the incorporation by reference of this document in accordance with 5 U.S.C. 552(a) and 1 CFR part 51. Contact Boeing Commercial Airplanes, P.O. Box 3707, Seattle, Washington 98124-2207, for a copy of this service information. You may review copies at the Docket Management Facility, U.S. Department of Transportation, 400 Seventh Street SW., room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on September 12, 2005.
Kalene C. Yanamura,
Acting Manager, Transport Airplane Directorate, Aircraft Certification Service.

[FR Doc. 05-19227 Filed 9-28-05; 8:45 am]

BILLING CODE 4910-13-P